DEPARTMENT OF COMMERCE

National Oceanic and Atmospheric Administration

50 CFR Part 679

RIN 0648-XF559

Fisheries of the Exclusive Economic Zone Off Alaska; Essential Fish Habitat Amendments

AGENCY: National Marine Fisheries Service (NMFS), National Oceanic and Atmospheric Administration (NOAA), Commerce.

ACTION: Notification of availability of fishery management plan amendments; request for comments.

SUMMARY: The North Pacific Fishery Management Council (Council) submitted Amendment 115 to the Fishery Management Plan (FMP) for Groundfish of the Bering Sea and Aleutian Islands Management Area, Amendment 105 to the FMP for Groundfish of the Gulf of Alaska, Amendment 49 to the FMP for Bering Sea/Aleutian Islands King and Tanner Crabs, Amendment 13 to the FMP for the Salmon Fisheries in the EEZ Off Alaska, and Amendment 2 to the FMP for Fish Resources of the Arctic Management Area, (collectively Amendments) to the Secretary of Commerce for review. If approved, these Amendments would revise the FMPs by updating the description and identification of essential fish habitat (EFH), and updating information on adverse impacts to EFH based on the best scientific information available. This action is intended to promote the goals and objectives of the Magnuson-Stevens Fishery Conservation and Management Act, the FMPs, and other applicable laws.

DATES: Comments on the amendments must be submitted on or before May 4, 2018.

ADDRESSES: You may submit your comments, identified by NOAA-NMFS-2017-0087, by any of the following methods:

• Electronic Submission: Submit all electronic public comments via the Federal eRulemaking Portal. Go to www.regulations.gov/#!docketDetail;D=NOAA-NMFS-2017-0087, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: NMFS may not consider comments if they are sent by any other method, to any other address or individual, or received after the comment period ends. All comments received are a part of the public record, and NMFS will post the comments for public viewing on www.regulations.gov without change. All personal identifying information (e.g., name, address), confidential business information, or otherwise sensitive information submitted voluntarily by the sender will be publicly accessible. NMFS will accept anonymous comments (enter “N/A” in the required fields if you wish to remain anonymous).

Electronic copies of the Amendments, maps of the EFH areas, the Environmental Assessment (the analysis), and the Final EFH five-year Summary Report prepared for this action may be obtained from www.regulations.gov.

FOR FURTHER INFORMATION CONTACT: Megan Mackey, 907-586-7228.

SUPPLEMENTARY INFORMATION: The Magnuson-Stevens Fishery Conservation and Management Act (Magnuson-Stevens Act) requires that each regional fishery management council submit any FMP amendment it prepares to NMFS for review and approval, disapproval, or partial approval by the Secretary of Commerce. The Magnuson-Stevens Act also requires that NMFS, upon receiving a FMP amendment, immediately publish a notice in the Federal Register announcing that the amendment is available for public review and comment. This notice announces that Amendment 115 to the FMP for Groundfish of the Bering Sea and Aleutian Islands Management Area (BSAI Groundfish FMP); Amendment 105 to the FMP for Groundfish of the Gulf of Alaska (GOA Groundfish FMP); Amendment 49 to the FMP for Bering Sea/Aleutian Islands King and Tanner Crabs (Crab FMP); Amendment 13 to the FMP for the Salmon Fisheries in the EEZ Off Alaska (Salmon FMP); and Amendment 2 to the FMP for Fish Resources of the Arctic Management Area (Arctic FMP) are available for public review and comment.

The Council prepared the FMPs under the authority of the Magnuson-Stevens Act, 16 U.S.C. 1801 et seq. Regulations governing U.S. fisheries and implementing the FMPs appear at 50 CFR parts 600, 679, and 680. Section 303(a)(7) of the Magnuson-Stevens Act requires that each FMP describe and identify EFH, minimize to the extent practicable the adverse effects of fishing on EFH, and identify other measures to promote the conservation and enhancement of EFH. The Magnuson-Stevens Act defines EFH as those waters and substrate necessary to fish for spawning, breeding, feeding, or growth to maturity. Implementing regulations at § 600.815 list the EFH contents required in each fishery management plan and direct councils to conduct a complete review of all EFH information at least once every five years (referred to here as “the 5-year review”).

The Council developed the Amendments as a result of a new information available through the 5-year review that began in 2014 (2015 5-year review) and adopted the Amendments in April 2017. The 2015 5-year review is the Council's third review of EFH in the FMPs. Prior 5-year reviews were conducted in 2005 and 2010. The Council recommended amendments to the description and identification of EFH in the FMPs with new information and improved mapping as described in the Final EFH 5-year Summary Report for the 2015 5-year review (Summary Report, see ADDRESSES). The Council also recommended updates to EFH information based on the best available information in the Summary Report (see ADDRESSES). The Council recommended updates to EFH for all FMPs except for the Scallop FMP because no new information is available to update EFH descriptions for scallops.

The Amendments would make the following changes to the FMPs:

• Amendment 115 to the BSAI Groundfish FMP and Amendment 105 to the GOA Groundfish FMP (Amendments 115/105) would update the EFH descriptions for all managed species and update the identification of EFH for those managed species for which new population density or habitat suitability information is available. Sections 4.2.1 and 5.2.1 of the Environmental Assessment (see ADDRESSES) describe which EFH updates would be made for each species and life stage. Amendments 115/105 would also update information in Appendix F on adverse impacts to EFH based on the best scientific information available in the Summary Report (see ADDRESSES).

• Amendment 49 to the Crab FMP would update the EFH descriptions for all managed species and update the identification of EFH for those managed species for which new population density or habitat suitability information is available. Section 6.2.1 of the Environmental Assessment (See ADDRESSES) describes which EFH updates would be made for each species and life stage. Amendment 49 would also update information in Appendix F on adverse impacts to EFH based on the best scientific information available in the Summary Report (see ADDRESSES).

• Amendment 13 to the Salmon FMP would replace Appendix A, “Essential Fish Habitat (EFH) and Habitat Areas of Particular Concern (HAPC),” with a new Appendix A based on the best available information in the Summary Report (see ADDRESSES). Amendment 13 to the Salmon FMP would update the marine EFH descriptions for all salmon species and update the identification of marine EFH for each species and life stage for which new population density or habitat suitability information is available. Section 7.2.1 of the Environmental Assessment (see ADDRESSES) describes which EFH updates would be made for each species and life stage. Amendment 13 would also update information in Appendix A on adverse impacts to EFH based on the best scientific information available in the Summary Report (see ADDRESSES).

• Amendment 2 to the Arctic FMP would update the EFH descriptions for all managed species for which new information is available, and update the identification of EFH for snow crab. Section 8.2.1 of the Environmental Assessment (See ADDRESSES) describes which EFH updates would be made for each species and life stage. Amendment 2 would also update information in Appendix C on adverse impacts to EFH based on the best scientific information available in the Summary Report (see ADDRESSES).

NMFS is soliciting public comments on the Amendments through the end of the comment period (see DATES). All relevant written comments received by the end of the applicable comment period will be considered by NMFS in the approval/disapproval decision for the Amendments and addressed in the response to comments in the final decision. Comments received after end of the applicable comment period will not be considered in the approval/disapproval decision on the Amendments. To be considered, comments must be received, not just postmarked or otherwise transmitted, by the last day of the comment period (see DATES).

Authority: 16 U.S.C. 1801 et seq.

Dated: February 27, 2018.
Samuel D. Rauch, III,
Deputy Assistant Administrator for Regulatory Programs, National Marine Fisheries Service.

[FR Doc. 2018-04351 Filed 3-2-18; 8:45 am]

BILLING CODE 3510-22-P